SMALL BUSINESS ADMINISTRATION

[Disaster Declaration #10625]

Virginia Disaster Number VA-00008

AGENCY: U.S. Small Business Administration.

ACTION: Amendment 2.

SUMMARY: This is an amendment of the Presidential declaration of a major disaster for Public Assistance Only for the Commonwealth of Virginia (FEMA-1661-DR), dated 9/22/2006.

Incident: Severe Storms and Flooding, Inc. Severe Storms and Flooding due to TS Ernesto.

Incident Period: 8/29/2006 through 9/7/2006.

DATES: Effective Date: 10/18/2006.

Physical Loan Application Deadline Date: 11/21/2006.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Virginia, dated 9/22/2006, is hereby amended to include the following areas as adversely affected by the disaster.

Primary Counties: Greensville, King and Queen, Lunenburg.

All other information in the original declaration remains unchanged.

(Catalog of Federal Domestic Assistance Number 59008)

Herbert L. Mitchell,
Associate Administrator for Disaster Assistance.

[FR Doc. E6-19276 Filed 11-14-06; 8:45 am]

BILLING CODE 8025-01-P